DEPARTMENT OF HEALTH AND HUMAN SERVICES

Centers for Disease Control and Prevention

[Program Announcement 01196]

Evaluation of Breast Cancer Incidence; Notice of Availability of Funds

A. Purpose

The Centers for Disease Control and Prevention (CDC) announces the availability of fiscal year (FY) 2001 funds for a grant program for an Evaluation of Breast Cancer Incidence in DuPage County, Illinois. This program addresses the “Healthy People 2010” focus areas of Cancer and Environmental Health.

The purpose of the program is to conduct an analysis of data routinely collected by health service organizations on breast cancer morbidity and mortality in DuPage County, Illinois. Through this program, the DuPage County Health Department will be able to determine the incidence of breast cancer in the county and to outline a plan to address the programmatic and health issues identified.

No human subjects research will be supported under this program announcement.

B. Eligible Applicant

Assistance will be provided only to the DuPage County Health Department in Wheaton, Illinois. No other applications are solicited. Eligibility is limited to the DuPage County Health Department because Fiscal Year 2001 federal appropriations specifically direct the Centers for Disease Control and Prevention to award funds to evaluate the high incidence of breast cancer in DuPage County, Illinois.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $92,000 is available in FY 2001 to fund this award. It is expected that the award will begin on or about September 30, 2001, and will be made for a one year project period. Funding estimates may change.

D. Where To Obtain Additional Information

This and other CDC announcements can be found on the CDC home page Internet address—http://www.cdc.gov Click on “Funding” then “Grants and Cooperative Agreements.”

To obtain business management technical assistance, contact: Sharron Orum, Grants Management Specialist, Grants Management Branch, Procurement and Grants Office, Centers for Disease Control and Prevention, 2920 Brandywine Road, Room 3000, Atlanta, GA 30341-4146, Telephone number: (770) 488-2716, Email address: spo2@cdc.gov

For program technical assistance, contact: Ronney Lindsey, Deputy Director, Division of Environmental Hazards and Health Effects, National Center for Environmental Health, Centers for Disease Control and Prevention, 4770 Buford Highway, Mailstop E19, Atlanta, GA 30341, Telephone number: (404) 498-1308, Email address: rll3@cdc.gov

Dated: August 1, 2001.
John L. Williams,
Director, Procurement and Grants Office Centers for Disease Control and Prevention (CDC).

[FR Doc. 01-19693 Filed 8-6-01; 8:45 am]

BILLING CODE 4163-18-P